DEPARTMENT OF TRANSPORTATION

Federal Aviation Administration

14 CFR Part 39

[Docket No. 2003-CE-66-AD; Amendment 39-13656; AD 2004-11-10]

RIN 2120-AA64

Airworthiness Directives; Przedsiebiorstwo Doswiadczalno-Produkcyjne Szybownictwa “PZL-Bielsko” Model SZD-50-3 “Puchacz” Sailplanes

AGENCY: Federal Aviation Administration (FAA), DOT.

ACTION: Final rule.

SUMMARY: The FAA adopts a new airworthiness directive (AD) for all Przedsiebiorstwo Doswiadczalno-Produkcyjne Szybownictwa “PZL-Bielsko” (PZL-Bielsko) Model SZD-50-3 “Puchacz” sailplanes. This AD requires you to inspect the airbrake torque tube for cracks, distortion, and corrosion (herein referred to as damage). This AD also requires you to replace or repair any damaged airbrake torque tube. This AD is the result of mandatory continuing airworthiness information (MCAI) issued by the airworthiness authority for Poland. We are issuing this AD to detect and correct damage on the airbrake torque tube, which could result in failure of the airbrake system. This failure could lead to loss of control of the sailplane.

DATES: This AD becomes effective on July 19, 2004.

As of July 19, 2004, the Director of the Federal Register approved the incorporation by reference of certain publications listed in the regulation.

ADDRESSES: You may get the service information identified in this AD from Allstar PZL Glider Sp. z o.o., ul. Cieszyńska 325, 43-300 Bielsko-Biala.

You may view the AD docket at FAA, Central Region, Office of the Regional Counsel, Attention: Rules Docket No. 2003-CE-66-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What events have caused this AD? The Civil Aviation Office (CAO), which is the airworthiness authority for Poland, recently notified FAA that an unsafe condition may exist on all PZL-Bielsko Model SZD-50-3 “Puchacz” sailplanes. The CAO reports several instances of the airbrake torque tube breaking and separating from the fuselage during flight, which makes it impossible to retract the airbrake.

An investigation revealed damage at the welded joint between the airbrake torque tube and the fuselage. The damage was caused by material fatigue due to frequent striking load that exceeds the recommended allowances and/or corrosion.

What is the potential impact if FAA took no action? This condition, if not detected and corrected, could cause the airbrake system to fail. Failure of the airbrake system could result in loss of control of the sailplane.

Has FAA taken any action to this point? We issued a proposal to amend part 39 of the Federal Aviation Regulations (14 CFR part 39) to include an AD that would apply to all PZL-Bielsko Model SZD-50-3 “Puchacz” sailplanes. This proposal was published in the Federal Register as a notice of proposed rulemaking (NPRM) on April 9, 2004 (69 FR 18845). The NPRM proposed to require you to inspect the airbrake torque tube for cracks, distortion, and corrosion (damage) and replace or repair any damaged airbrake torque tube.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 8 sailplanes in the U.S. registry.

What is the cost impact of this AD on owners/operators of the affected sailplanes? We estimate the following costs to accomplish the inspection:

Labor cost | Parts cost | Total cost per sailplane | Total cost on U.S. operators
5 workhours × $65 per hour = $325 | Not applicable | $325 | $2,600

We estimate the following costs to accomplish any necessary replacements that will be required based on the results of the inspection. We have no way of determining the number of sailplanes that may need this replacement:

Labor cost | Parts cost | Total cost per sailplane
5 workhours × $65 per hour = $325 | $294 | $325 + $294 = $619

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-66-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-11-10 Przedsiebiorstwo Doswiadczalno-Produkcyjne Szybownictwa “PZL-Bielsko”: Amendment 39-13656; Docket No. 2003-CE-66-AD.

When Does This AD Become Effective?

(a) This AD becomes effective on July 19, 2004.

What Other ADs Are Affected by This Action?

(b) None.

What Sailplanes Are Affected by This AD?

(c) This AD affects Model SZD-50-3 “Puchacz” sailplanes, all serial numbers, that are certificated in any category.

What Is the Unsafe Condition Presented in This AD?

(d) This AD is the result of mandatory continuing airworthiness information (MCAI) issued by the airworthiness authority for Poland. We are issuing this AD to detect and correct cracks in the airbrake torque tube, which could result in failure of the airbrake system. This failure could lead to loss of control of the sailplane.

What Must I Do To Address This Problem?

(e) To address this problem, you must do the following:

Actions | Compliance | Procedures
(1) Using a flourescent dye-penetrant or dye-check method, inspect the airbrake torque tube for cracks and corrosion pits. Visually inspect for permanent distortions and surface corrosion (damage). | Within the next 25 hours time-in-service (TIS) after July 19, 2004 (the effective date of this AD). Repetitively inspect thereafter at intervals not to exceed 12 calendar months or 100 hours TIS, whichever occurs later | Follow Allstar PZL Glider SP. Z o.o. Mandatory Bulletin No. BE-052/SZD-50-3/2003 “Puchacz”, dated July 22, 2003.
(2) Based on the results of the inspection: (a) Repair the airbrake torque tube if slight, uniform corrosive deposits are found during the inspection required in paragraph (e)(1) of this AD by removing the corrosive deposits with a fine abrasive paper; and (b) Replace the airbrake torque tube if any other damage is found during the inspection required in paragraph (e)(1) of this AD. | Prior to further flight after the inspection in which the damage is found. Continue with the repetitive inspections required in paragraph (e)(1) of this AD after each repair or replacement is made | Follow Allstar PZL Glider Sp. Z o.o. Mandatory Bulletin No. BE-052/SZD-50-3/2003 “Puchacz”, dated July 22, 2003.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Does This AD Incorporate Any Material by Reference?

(g) You must do the actions required by this AD following the instructions in Allstar PZL Glider Sp. Z o.o. Mandatory Bulletin No. BE-052/SZD-50-3/2003 “Puchacz”, dated July 22, 2003. The Director of the Federal Register approved the incorporation by reference of this service bulletin in accordance with 5 U.S.C. 552(a) and 1 CFR part 51. You may get a copy from Allstar PZL Glider Sp. z o.o., ul. Cieszyńska 325, 43-300 Bielsko-Biala. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) Republic of Poland AD Number SP-0052-2003-A, dated July 22, 2003, also addresses this subject.

Issued in Kansas City, Missouri, on May 27, 2004.
Scott L. Sedgwick,
Acting Manager, Small Airplane Directorate, Aircraft Certification Service.

[FR Doc. 04-12573 Filed 6-7-04; 8:45 am]

BILLING CODE 4910-13-P